DEPARTMENT OF HEALTH AND HUMAN SERVICES

Delegation of Authorities

Notice is hereby given that I have delegated to the Administrator, Centers for Medicare & Medicaid Services (CMS), with authority to re-delegate, the authority vested in the Secretary of the Department of Health and Human Services under Section 1128C(a)(2) of the Social Security Act (the Act) (42 U.S.C. 1320a-7c(a)(2)), as amended, to consult with and arrange for the sharing of data with representatives of health plans pertaining to the Health Care Fraud and Abuse Control Program created by Section 201(a) of the Health Insurance Portability and Accountability Act of 1996 (Section 1128C of the Act; 42 U.S.C. 1320a-7c), as amended.

This delegation excludes any authorities previously assigned or delegated to the Office of Inspector General under Section 1128C (42 U.S.C. 1320a-7c) of the Act.

I hereby affirm and ratify any actions taken by the Administrator, CMS, or other CMS officials, which involve the exercise of this authority prior to the effective date of this delegation.

This delegation of authority is effective upon date of signature.

Authority: 44 U.S.C. 3101.

Dated: February 4, 2013.
Kathleen Sebelius,
Secretary.

[FR Doc. 2013-02900 Filed 2-7-13; 8:45 am]

BILLING CODE 4150-03-P